DEPARTMENT OF THE TREASURY

Submission for OMB Review; Comment Request

April 18, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 24, 2001 to be assured of consideration.

Internal Revenue Service (IRS)

OMB Number: 1545-0056.

Form Number: IRS Forms 1023 and Form 872-C.

Type of Review: Extension.

Title: Application for Recognition of Exemption Under Section 501(c)(3) of the Internal Revenue Code (1023); and Consent Fixing Period of Limitation Upon Assessment of Tax Under Section 4940 of the Internal Revenue Code (872).

Description: Form 1023 is filed by applicants seeking Federal income tax exemption as organizations described in section 501(c)(3). IRS uses the information to determine if the applicant is exempt and whether the applicant is a private foundation. Form 872-C extends the statute of limitations for assessing tax under section 4940.

Respondents: Not-for-profit institutions.

Estimated Number of Respondents/Recordkeeper: 29,409.

Estimated Burden Hours Per Respondent/Recordkeeper:

Form/schedule | Recordkeeping | Learning about the law or the form | Preparing and sending the form to the IRS
1023 Parts I to IV | 55 hr., 43 min | 5 hr., 0 min. | 8 hr., 32 min.
1023 Schedule A | 7 hr., 10 min | 0 min | 7 min.
1023 Schedule B | 4 hr., 46 min | 30 min | 36 min.
1023 Schedule C | 5 hr., 1 min | 35 min | 42 min.
1023 Schedule D | 4 hr., 4 min | 42 min | 47 min.
1023 Schedule E | 9 hr., 19 min | 1 hr., 5 min | 1 hr., 17 min.
1023 Schedule F | 2 hr., 37 min | 2 hr., 52 min | 3 hr., 3 min.
1023 Schedule G | 2 hr., 37 min | 0 min | 2 min.
1023 Schedule H | 1 hr., 54 min | 42 min | 45 min.
1023 Schedule I | 3 hr., 35 min | 0 min | 3 min.
872-C | 1 hr., 25 min | 24 min | 25 min.

Frequency of Response: On occasion.

Estimated Total Reporting/Recordkeeping Burden: 2,069,267 hours.

OMB Number: 1545-1591.

Revenue Procedure Number: Revenue Procedure 98-23.

Regulation Project Number: REG-251701-96 NPRM.

Type of Review: Extension.

Title: Qualified Subchapter S Trust Conversions to Electing Small Business Trusts (REG-251701-96); and Electing Small Business Trust (Rev. Proc. 98-23).

Description: The revenue procedure and regulation provide a method for taxpayers to obtain the Secretary's consent to convert a Qualified Subchapter S Trust (QSST) to an Electing Small Business Trust (ESBT) as well as to convert an ESBT to a QSST.

Respondents: Business or other for-profit.

Estimated Number of Respondents: 2,500.

Estimated Burden Hours Per Respondent: 1 hour.

Frequency of Response: Other (once).

Estimated Total Reporting Burden: 2,500 hours.

OMB Number: 1545-1729.

Regulation Project Number: REG-107186-00 NPRM and Temporary.

Type of Review: Extension.

Title: Electronic Payee Statements.

Description: In general, under these regulations, a person required to furnish a statement on Form W-2 under Code sections 6041(d) or 6051, or Forms 1098-T or 1098-E under Code section 6050S, may furnish these statements electronically if the recipient consents to receive them electronically, and if the person furnishing the statement (1) makes certain disclosure3s to the recipient, (2) annually notifies the recipient that the statement is available on a website, and (3) provides access to the statement on that website for a prescribed period of time.

Respondents: Business or other for-profit, Individuals or households.

Estimated Number of Respondents/Recordkeeper: 15,200.

Estimated Burden Hours Per Respondent/Recordkeeper: 6 minutes.

Frequency of Response: Annually.

Estimated Total Reporting/Recordkeeping Burden: 2,844,950 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports, Management Officer.

[FR Doc. 01-10045 Filed 4-23-01; 8:45 am]

BILLING CODE 4830-01-P